Title 3—

The President

Proclamation 7758 of March 1, 2004

To Modify Duty-Free Treatment Under the Generalized

System of Preferences

By the President of the United States of America

A Proclamation

1. Pursuant to sections 501 and 502(a)(1) of the Trade Act of 1974, as amended (the “Act”) (19 U.S.C. 2461, 2462(a)(1)), the President is authorized to designate countries as beneficiary developing countries for purposes of the Generalized System of Preferences (GSP).

2. Section 502(b)(1)(C) of the Act (19 U.S.C. 2462(b)(1)(C)) specifies that European Union member states may not be designated as beneficiary developing countries for purposes of the GSP.

3. Section 502(e) of the Act (19 U.S.C. 2462(e)) provides that the President shall terminate the designation of a country as a beneficiary developing country for purposes of the GSP if the President determines that such country has become a “high income” country as defined by the official statistics of the International Bank for Reconstruction and Development. Termination is effective on January 1 of the second year following the year in which such determination is made.

4. Pursuant to sections 501 and 502(a)(1) of the Act, and having due regard for the factors set forth in section 501 of the Act and taking into account the factors set forth in section 502(c) (19 U.S.C. 2462(c)), I have decided to designate Algeria as a beneficiary developing country for purposes of the GSP.

5. Consistent with section 502(b)(1)(C) of the Act, I have decided to terminate the designation of the Czech Republic, Estonia, Hungary, Latvia, Lithuania, Poland, and Slovakia as beneficiary developing countries, with such termination to become effective for each of these countries when it becomes a European Union member state.

6. Pursuant to section 502(e) of the Act, I have determined that Antigua and Barbuda, Bahrain, and Barbados have become “high income” countries, and I am terminating the designation of those countries as beneficiary developing countries for purposes of the GSP, effective January 1, 2006.

7. Section 604 of the Act (19 U.S.C. 2483), authorizes the President to embody in the Harmonized Tariff Schedule of the United States (HTS) the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States of America, including title V and section 604 of the Act (19 U.S.C. 2461-67, 2483), do proclaim that:

(1) Algeria is designated as a beneficiary developing country for purposes of the GSP, effective 15 days after the date of this proclamation.

(2) In order to reflect this designation in the HTS, general note 4(a) to the HTS is modified by adding “Algeria” to the list entitled “Independent Countries,” effective with respect to articles entered, or withdrawn from warehouse for consumption, on or after the fifteenth day after the date of this proclamation.

(3) The designation of the Czech Republic, Estonia, Hungary, Latvia, Lithuania, Poland, and Slovakia as beneficiary developing countries for purposes of the GSP is terminated for each country on the date when it becomes a European Union member state. The United States Trade Representative shall announce each such date in a notice published in the Federal Register.

(4) In order to reflect these terminations in the HTS, general note 4(a) to the HTS is modified by deleting “Czech Republic,” “Estonia,” “Hungary,” “Latvia,” “Lithuania,” “Poland,” and “Slovakia” from the list of independent countries, effective for each of these countries with respect to articles entered, or withdrawn from warehouse for consumption, on or after the day on which that country becomes a European Union member state.

(5) The designation of Antigua and Barbuda, Bahrain, and Barbados as beneficiary developing countries for purposes of the GSP is terminated, effective on January 1, 2006.

(6) In order to reflect this termination in the HTS, and to make other changes to update the list of Caribbean Common Market (CARICOM) member countries, effective with respect to articles entered, or withdrawn from warehouse for consumption, on or after January 1, 2006, general note 4(a) to the HTS is modified by:

(a)

deleting “Antigua and Barbuda,” “Bahrain,” and “Barbados” from the list of independent countries,

(b)

deleting “Antigua and Barbuda” and “Barbados” from the list of the “Member Countries of the Caribbean Common Market (CARICOM), except The Bahamas” under the provision “Associations of Countries (treated as one country),” and

(c)

deleting “Member Countries of the Caribbean Common Market (CARICOM), except The Bahamas” and inserting “Member Countries of the Caribbean Common Market (CARICOM)” in lieu thereof, and deleting “Consisting of:” before the list of countries and inserting “Currently qualifying:” in lieu thereof.

(7) Any provisions of previous proclamations and Executive Orders that are inconsistent with the actions taken in this proclamation are superseded to the extent of such inconsistency.

IN WITNESS WHEREOF, I have hereunto set my hand this first day of March, in the year of our Lord two thousand four, and of the Independence of the United States of America the two hundred and twenty-eighth.

B

[FR Doc. 04-5006

Filed 3-3-04; 8:45 am]

Billing code 3195-01-P